DEPARTMENT OF ENERGY

Federal Energy Regulatory Commission

[Project No. 14775-004]

Marine Renewable Energy Collaborative of New England; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 14775-004.

c. Date Filed: September 7, 2021.

d. Submitted By: Marine Renewable Energy Collaborative of New England (MRECo).

e. Name of Project: Bourne Tidal Test Site Project.

f. Location: In the Cape Cod Canal near the Town of Bourne, in Barnstable County, MA. The project would be located on approximately one acre of federal land under the jurisdiction of the U.S. Army Corps of Engineers.

g. Filed Pursuant to: 18 CFR 5.3 of the Commission's regulations.

h. Applicant Contact: John Miller, Executive Director, Marine Renewable Energy Collaborative of New England, P.O. Box 479, Marion, MA 02738; Phone at (508) 728-5825; email at mrecnewengland@gmail.com.

i. FERC Contact: Robert Haltner at (202) 502-8612, or email at robert.haltner@ferc.gov.

j. MRECo has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act (collectively, the pre-filing materials).

k. With this notice, we are soliciting comments on the pre-filing materials listed in paragraph j above, including the draft license application and monitoring plans. All comments should be sent to the address above in paragraph h. The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-14775-004. Any individual or entity interested in submitting comments on the pre-filing materials must do so by October 20, 2021.

l. With this notice, we are approving MRECo's request to be designated as the non-federal representative for section 7 of the ESA and its request to initiate consultation under section 106 of the National Historic Preservation Act; and recommending that it begin informal consultation with: (a) The U.S. Fish and Wildlife Service and the National Marine Fisheries Service as required by section 7 of ESA; and (b) the Massachusetts State Historic Preservation Officer, as required by section 106 of the National Historical Preservation Act, and the implementing regulations of the Advisory Council on Historic Preservation at 36 CFR 800.2.

m. With this notice, we also are asking federal, state, local, and tribal agencies with jurisdiction and/or expertise with respect to environmental issues to cooperate with us in the preparation of the environmental document. Agencies who would like to request cooperating status should follow the instructions for filing comments described in paragraph k above.

n. This notice does not constitute the Commission's approval of MRECo's request to use the Pilot Project Licensing Procedures. Upon its review of the project's overall characteristics relative to the pilot project criteria, the draft license application contents, and any comments filed, the Commission will determine whether there is adequate information to conclude the pre-filing process.

o. The proposed Bourne Tidal Test Site Project would consist of: (1) An existing 56.2-foot-high, 23-foot-wide support structure; (2) a proposed horizontal axis, open-bladed, 50-kilowatt turbine-generator unit (other in-stream turbine-generators would also be tested at the site) having a 3-meter-diameter sweep area; (3) a proposed 13.2-kilovolt overhead transmission line connecting the turbine-generator unit to the regional grid; and (4) appurtenant facilities. The hydrokinetic project would have an estimated average annual generation of 175-megawatt hours.

p. A copy of the draft license application and all pre-filing materials can be viewed on the Commission's website at http://www.ferc.gov using the “eLibrary” link. Enter the docket number (P-14775), excluding the last three digits in the docket number field to access the document. For assistance, contact FERC Online Support.

q. Pre-filing Process Schedule. The pre-filing process will be conducted pursuant to the following tentative schedule. Revisions to the schedule below may be made based on staff's review of the draft application and any comments received.

Milestone | Date
Comments on pre-filing materials due | October 20, 2021.
Issuance of additional information request | November 4, 2021.
Issuance of meeting notice (if needed) | November 4, 2021.
Public meeting/technical conference (if needed) | December 4, 2021.

r. Register online at https://ferconline.ferc.gov/FERCOnline.aspx to be notified via email of new filing and issuances related to this or other pending projects. For assistance, contact FERC Online Support.

Dated: September 20, 2021.
Debbie-Anne A. Reese,
Deputy Secretary.

[FR Doc. 2021-20776 Filed 9-23-21; 8:45 am]

BILLING CODE 6717-01-P